DEPARTMENT OF HEALTH AND HUMAN SERVICES

Centers for Disease Control and Prevention

Agency for Toxic Substances and Disease Registry

National Center for State, Tribal, Local, and Territorial Public Health Infrastructure and Workforce, CDC and ATSDR Tribal Consultation Session

AGENCY: Centers for Disease Control and Prevention (CDC) and Agency for Toxic Substances and Disease Registry (ATSDR), Department of Health and Human Services (HHS).

ACTION: Notice of meeting.

SUMMARY: The Centers for Disease Control and Prevention (CDC) and the Agency for Toxic Substances and Disease Registry (ATSDR) announce a CDC and ATSDR Tribal Consultation. CDC and ATSDR will host a virtual tribal consultation with American Indian and Alaska Native (AI/AN) Federally Recognized Tribes. The proceedings will be open to the public.

DATES: The tribal consultation will be held on July 12, 2023, from 2 p.m. to 3:30 p.m., EDT. Written tribal testimony is due by 5 p.m., EDT, on July 24, 2023.

ADDRESSES: Virtually through Zoom. To register, go to https://cdc.zoomgov.com/j/1610090031?pwd=V1VCa1lZR3BRVWFab1lNUEFWQUl2UT09. All elected tribal officials or their authorized representatives of federally recognized AI/AN tribes are encouraged to submit written tribal testimony to the contact person and mailing address listed below or by email at Tribalsupport@cdc.gov.

FOR FURTHER INFORMATION CONTACT: Latonya Tripp-Dinkins, DBH, LPC, National Center for Injury Prevention Control, Centers for Disease Control and Prevention, 4770 Buford Highway, Chamblee, Georgia 30341-3717. Telephone: (404) 956-2782; Email: violenceprevention@cdc.gov.

SUPPLEMENTARY INFORMATION: This meeting is being held in accordance with Presidential Executive Order No. 13175 of November 6, 2000, Consultation and Coordination with Indian Tribal Governments, and the Presidential Memoranda of January 26, 2021, November 5, 2009, September 23, 2004, and April 29, 1994, and the Centers for Disease Control and Prevention (CDC)/Agency for Toxic Substances and Disease Registry (ATSDR) Tribal Consultation Policy (https://www.cdc.gov/tribal/consultation-support/tribal-consultation/policy.html).

Purpose: The purpose of the consultation meeting is to advance CDC and ATSDR support for and collaboration with American Indian and Alaska Native (AI/AN) tribal nations and to improve the health of AI/AN people by pursuing goals that include assisting in eliminating health disparities faced by tribal nations; ensuring that access to critical health and human services and public health services is maximized to advance or enhance the social, physical, and economic status of AI/AN people; and promoting health equity for all AI/AN people and communities. To advance these goals, CDC and ATSDR conduct government-to-government consultations with elected tribal officials of federally recognized AI/AN tribes or their authorized representatives. Consultation is an enhanced form of communication that emphasizes trust, respect, and shared responsibility. It is an open and free exchange of information among parties that leads to mutual understanding and informed decision-making on behalf of the federal government.

Matters to be Considered: CDC and ATSDR are hosting this meeting to hold consultation with federally recognized AI/AN tribes to receive input and guidance to inform sexual violence prevention activities and strategies in developing Notices of Funding Opportunity (NOFOs). CDC and ATSDR are seeking feedback on how the agencies can better engage with Indian Country through meaningful consultation and on how the agency can ensure that a NOFO from CDC's Rape Prevention and Education (RPE) program is sensitive to the needs and concerns of tribal communities and is as effective as possible regarding the prevention of sexual violence, as well as on how the agency can better support tribes and tribal communities moving forward regarding health inequities related to RPE and injury prevention. The tribal consultation meeting is intended to provide interested parties with an opportunity to discuss their public health priorities and concerns related to RPE that may affect tribal nations.

The RPE program was authorized through the Violence Against Women Act, which was passed by Congress in 1994, and was most recently reauthorized in 2022. Grants awarded under this program are to be used for RPE programs conducted by state and territorial health departments and sexual assault coalitions, including tribal sexual assault coalitions. Additional information about the RPE program can be found at https://www.cdc.gov/violenceprevention/sexualviolence/rpe/index.html.

Elected tribal officials can find guidance to assist in developing tribal testimony for CDC and ATSDR at https://www.cdc.gov/tribal/documents/consultation/Tribal-Testimony-Guidance.pdf. Please submit tribal testimony on official tribal letterhead.

Based on the number of elected tribal officials giving testimony and the time available, it may be necessary to limit the time for each presenter. We will adjourn tribal consultation meetings early if all attendees who requested to provide oral testimony in advance of and during the consultation have delivered their comments. Agenda items are subject to change as priorities dictate.

Additional information about CDC/ATSDR's Tribal Consultation Policy can be found at https://www.cdc.gov/tribal/consultation-support/tribal-consultation/policy.html.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-10275 Filed 5-12-23; 8:45 am]

BILLING CODE 4163-18-P